DEPARTMENT OF TRANSPORTATION

Federal Aviation Administration

14 CFR Part 39

[Docket No. FAA-2024-0225; Project Identifier MCAI-2023-00725-T; Amendment 39-22979; AD 2025-05-07]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for all Airbus Canada Limited Partnership (ACLP) Model BD-500-1A10 and BD-500-1A11 airplanes. This AD was prompted by a design review of aircraft structural and stress reports that resulted in a revision of operational loads for some aircraft flight phases. This AD requires using a certain version of the aircraft structural repair manual (ASRP) and a review and disposition of repairs based on previous versions, as specified in a Transport Canada AD, which is incorporated by reference. The FAA is issuing this AD to address the unsafe condition on these products.

DATES: This AD is effective April 15, 2025.

The Director of the Federal Register approved the incorporation by reference of a certain publication listed in this AD as of April 15, 2025.

ADDRESSES:

AD Docket: You may examine the AD docket at regulations.gov under Docket No. FAA-2024-0225; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material at the FAA, Airworthiness Products Section, Operational Safety Branch, 2200 South 216th St., Des Moines, WA. For information on the availability of this material at the FAA, call 206-231-3195. It is also available at regulations.gov under Docket No. FAA-2024-0225.

FOR FURTHER INFORMATION CONTACT: Yaser Osman, Aviation Safety Engineer, FAA, FAA, 2200 South 216th St., Des Moines, WA 98198; phone: 860-386-1786; email: yaser.m.osman@faa.gov.

SUPPLEMENTARY INFORMATION:

Background

The FAA issued a notice of proposed rulemaking (NPRM) to amend 14 CFR part 39 by adding an AD that would apply to all Airbus Canada Limited Partnership Model BD-500-1A10 and BD-500-1A11 airplanes. The NPRM published in the Federal Register on February 12, 2024 (89 FR 9798). The NPRM was prompted by AD CF-2023-37, dated May 30, 2023 (Transport Canada AD CF-2023-37), issued by Transport Canada, which is the aviation authority for Canada. Transport Canada AD CF-2023-37 stated that a design review of aircraft structural and stress reports resulted in a revision of operational loads for some aircraft flight phases, affecting certain aircraft sections. As a result, repairs and damage assessments accomplished on aircraft to date may have exceeded the available structural margins and require review to ensure they comply with the revised stress data for the affected sections. Transport Canada AD CF-2023-37 mandated that ASRP 136.01 or later approved versions, or Airbus Canada source data approved at the time of the disposition, be used for any new structural assessments, repairs, and dispositions for all Model BD-500-1A10 and Model BD-500-1A11 airplanes. Additionally, Transport Canada AD CF-2023-37 mandated the review and disposition of all repairs and damage assessments for affected structure and prohibited use of previously authorized repairs as source data to generate new repairs for affected structure for Model BD-500-1A10 airplanes.

In the NPRM, the FAA proposed to require using a certain version of the ASRP and a review and disposition of repairs based on previous versions, as specified in Transport Canada AD CF-2023-37.

Since the FAA issued the NPRM, Transport Canada superseded CF-2023-37, dated May 30, 2023, and issued Transport Canada AD CF-2023-37R1, dated May 22, 2024 (Transport Canada AD CF-2023-37R1) (also referred to as the MCAI), to correct an unsafe condition for all Model BD-500-1A10 and Model BD-500-1A11 airplanes. The MCAI states it maintains the restriction of Part I of CF-2023-37 regarding which source data must not be used to assess new damage and repairs on all Model BD-500-1A10 and BD-500-1A11 airplanes but removes the restriction on which source data must be used. The MCAI also states the service information referenced in Part II of Transport Canada AD CF-2023-37 has been revised to clarify that repairs accomplished using repair engineering orders (REOs) issued later than a specific date have already been validated by ACLP (also referred to as “Airbus Canada” in Transport Canada AD CF-2023-37) and therefore do not require an additional approved disposition. The MCAI references the updated service information in Part II of the MCAI and incorporates the acceptable REO issue date in Part III.

The FAA has reviewed the MCAI and determined that the revised requirements, and the updated service information referenced in the MCAI, are less restrictive than those specified in Transport Canada AD CF-2023-37 and do not expand the scope of the requirements specified in the proposed AD. The FAA has therefore revised this AD to adopt the requirements of the MCAI except for any differences identified as exceptions in the regulatory text of this AD.

The FAA is issuing this AD to address in-service repairs in some structural areas that require verification, and possibly further repair. The unsafe condition, if not addressed, could result in negative margins for the load envelopes.

You may examine the MCAI in the AD docket at regulations.gov under Docket No. FAA-2024-0225.

Discussion of Final Airworthiness Directive

Comments

The FAA received a comment from an individual who supported the NPRM without change.

The FAA received additional comments from two commenters, Delta Air Lines (Delta) and an anonymous commenter. The following presents the comments received on the NPRM and the FAA's response to each comment.

Request To Correct Typographical Error

Delta requested the FAA correct the exception in paragraph (h)(3) of the proposed AD to include the full publication date of the referenced service information. Delta pointed out that the proposed replacement text is missing the publication year, “2022.” Delta stated an incomplete date allows ambiguity, which is not appropriate for rulemaking.

The FAA agrees and has corrected the error. Note the exception has been moved to paragraph (h)(2) of this AD.

Request To Clearly Identify Affected Structure

Delta requested that the FAA revise the proposed AD to clearly identify the “Affected Structure.” Delta noted that Transport Canada AD CF-2023-37 defines “Affected Structure” through reference to Airbus Canada Limited Partnership Service Bulletin BD500-530011, Issue 002, dated December 6, 2022, in which table 6 lists certain affected areas defined by Air Transport Association (ATA), location, and structure area. Delta stated it is not clear, however, what structure is affected, as the nomenclature listed in the “Structure” column of table 6 does not consistently align with the nomenclature used in the ASRP. As an example, Delta noted “Cockpit” is used in the service information, but the ASRP refers to the “Nose fuselage.” Delta also noted that the ATA chapters do align with the “Primary Structure” sections of the ASRP but found that the ambiguity of table 6 of the service information does not conform sufficiently to the specificity required in the rulemaking process. Delta stated that Airbus Canada Limited Partnership Service Bulletin BD500-530012, Issue 001, dated September 13, 2023, included various appendices that clearly communicated through graphics the affected structure for Model BD-500-1A11 airplanes. Delta recommended that the proposed AD reference a similar ACLP report to clearly identify affected structure for Model BD-500-1A10 airplanes.

The FAA partially agrees. The FAA agrees to clearly identify the affected structure by referencing Airbus Canada Limited Partnership Service Bulletin BD500-530011, Issue 003, dated May 3, 2022, instead of a ACLP report or appendices like those in Issue 001 of Airbus Canada Limited Partnership Service Bulletin BD500-530012. Issue 003 of Airbus Canada Limited Partnership Service Bulletin BD500-530011 is referenced in Transport Canada AD CF-2023-37R1 to identify the affected structure. The FAA reviewed Issue 003 of that service bulletin and determined it provides additional information that clarifies the affected structure. The FAA has also determined that either Issue 002 or Issue 003 of Airbus Canada Limited Partnership Service Bulletin BD500-530011 is adequate for accomplishing the actions required by this AD. Therefore, the FAA has revised paragraph (h)(2) of this AD to allow use of either Issue 002 or Issue 003 of that service bulletin for the definition of affected structure.

Request To Revise and Exclude Requirements To Assess and Disposition New Damage

Delta requested the FAA add a new exception to paragraph (h) of the proposed AD to revise the first sentence in Part I of Transport Canada AD CF-2023-37 and exclude the second sentence. The first sentence states, “As of the effective date of this AD, ASRP versions prior to 136.01 are no longer authorized for use in the accomplishment of new structural repairs or damage assessments.” Delta requested this sentence be revised to prohibit use of other repairs based upon ACLP source data issued prior to June 13, 2023 (the effective date of Transport Canada AD CF-2023-37), in addition to ASRP versions prior to 136.01. The second sentence states, “Any new damage must be assessed and dispositioned using ASRP 136.01 or later approved versions, or using Airbus Canada source data approved as of the effective date of this AD.” Delta stated the proposed AD specified that the unsafe condition is a result of inadequate structural and stress data used to develop ASRP and REO data. Delta also stated the unsafe condition is mitigated by reviewing existing repairs and corrective actions for them and by prohibiting use of ASRP versions prior to 136.01 and ACLP source data issued prior to June 13, 2023. Delta therefore concluded the proposed requirement in the second sentence does not correct the unsafe condition. Delta added that requiring “any new damage” be evaluated in accordance with the proposed requirement would have two effects: (1) New damage outside the scope of the unsafe condition (such as cabin sidewalls, seat covers, or overhead bins) would be subject to the proposed requirement, and (2) The proposed rule would override an owner or operator's ability to develop and install repairs under the authority of 14 CFR 43.13. Delta stated that implementing this requirement would constitute a significant regulatory action by adversely affecting the airline industry regarding productivity, competition, and jobs.

The FAA partially agrees. The FAA disagrees with prohibiting use of other repairs based upon ACLP source data issued prior to June 13, 2023, because sufficient justification was not provided to support that part of Delta's request. However, the FAA agrees to exclude the restriction regarding which source data must be used to assess new damage and repairs on all Model BD-500-1A10 and BD-500-1A11 airplanes. As stated previously, Transport Canada AD CF-2023-37R1 removes that restriction. The FAA concurs with its removal and has revised paragraph (g) of this AD accordingly.

Request To Remove Exception for Repair Using an Approved Method

Delta requested the FAA delete paragraph (h)(2) of the proposed AD because it would no longer be applicable if the FAA agrees to exclude the second sentence of Part I of Transport Canada AD CF-2023-37. Delta stated the language in paragraph (h)(2) of the proposed AD would not allow for minor repairs and instead would require any future damage assessments be accomplished using approved data. Delta also stated removing paragraph (h)(2) of the proposed AD would allow operators and owners to exercise authority under 14 CFR 43.13.

The FAA agrees paragraph (h)(2) of the proposed AD is no longer applicable and has removed it from this AD.

Request To Add an End Date for Existing Repairs and Damage Assessments

Delta requested the FAA add a new exception to paragraph (h) of the proposed AD to include an end date that would limit review of all repairs and damage assessments to those existing as of the effective date of the proposed AD. (The proposed requirement corresponds to Part II, paragraph A. of Transport Canada AD CF-2023-37.) Delta stated the proposed AD would require that operators no longer use prohibited data after the effective date of the proposed AD (corresponding to Part II, paragraph A. of Transport Canada AD CF-2023-37) to perform any new damage assessment and disposition, and that those actions would be performed using approved material (i.e., ASRP version 136.01 or later approved versions, or ACLP source data as of June 13, 2023 (the effective date of Transport Canada AD CF-2023-37)). Based on this, Delta concluded that all repairs installed after the effective date of the proposed AD would be assessed and dispositioned using approved material and would not need further review. Delta stated it consulted with ACLP, which concurred with Delta's conclusion. As additional justification for its request, Delta stated operators would be required to submit existing repairs and damage records to ACLP, but it could take up to several months to complete a review. Delta added, during that review time, additional damage assessments and dispositions could take place that would also need to be submitted for review, according to the proposed AD. Delta stated this would restart the review process, and that it is possible the review of all the repairs and damage assessments may not be completed before the expiration of the 24-month compliance time.

The FAA agrees to provide a time limit for determining what is considered an “existing” repair and damage assessment. Repairs and damage assessments accomplished on or after the effective date of this AD are “new,” and not “existing,” repairs and damage assessments because they are required to be done using approved material referenced in Transport Canada AD CF-2023-37R1 as of the effective date of this AD. The FAA also agrees that repairs and damage assessments performed on or after the effective date of this AD do not need to be submitted to ACLP for review and disposition. Therefore, the FAA has added a new exception in paragraph (h)(3) of this AD to specify that only repairs and damage assessments accomplished before the effective date of this AD need to be identified and reviewed for disposition.

Request To Revise Issuance Date of Prohibited REOs

Delta requested the FAA add a new exception to paragraph (h) of the proposed AD to prohibit use of ACLP REOs issued before June 13, 2023 (the effective date of Transport Canada AD CF-2023-37), as source data to create a new repair disposition, instead of the effective date of the FAA's proposed AD. Delta stated that, as of June 13, 2023, ACLP produced REOs that have been re-analyzed in response to the safety concerns addressed in Transport Canada AD CF-2023-37 and related ACLP service information. Delta therefore concluded that any repair disposition provided by ACLP after June 13, 2023, would not be affected by the unsafe condition of the proposed AD. Delta further stated it consulted with ACLP, which concurred that REOs issued after June 13, 2023, would not require further review to ensure compliance with the requirements of the proposed AD.

The FAA partially agrees. The FAA agrees to prohibit use of ACLP REOs issued before January 1, 2023, instead of June 13, 2023, as requested by Delta. As stated previously, Part III of Transport Canada AD CF-2023-37R1 specifies ACLP REOs issued prior to January 1, 2023, are no longer authorized for use as source data to create a new repair disposition. The FAA concurs with this revised requirement, which is less restrictive. Instead of adding an exception to paragraph (h) of this AD as requested, the FAA has revised paragraph (g) of this AD to adopt the requirements of Transport Canada AD CF-2023-37R1.

Request To Revise the Exception for the Effective Date

Delta requested the FAA revise paragraph (h)(1) of the proposed AD to provide an exception for using the effective date of this AD. Delta stated its previous request to add an exception to prohibit use of ACLP REOs issued before June 13, 2023, if adopted, would conflict with paragraph (h)(1) of the proposed AD. Delta also stated, if Transport Canada AD CF-2023-70, dated October 5, 2023 (Transport Canada AD CF-2023-70) is included in the proposed AD, then that change would supersede this request.

The FAA disagrees because paragraph (h)(1) of this AD does not conflict with any other requirements. As discussed previously, the FAA revised paragraph (g) of this AD to adopt the requirements of Transport Canada AD CF-2023-37R1 instead of adding the requested exception to paragraph (h) of this AD. The FAA has not changed this AD in this regard.

Request To Add Requirement for Supplemental Type Certificate (STC) Holders

Delta requested the FAA add a new exception to paragraph (h) of the proposed AD that would require STC holders to review their design data to determine if data subject to the unsafe condition was used for certification of those STCs. Delta asserted that inadequate structural and stress data (subject to the unsafe condition) may have been used by STC holder in developing certification data for their STCs. If this occurred, Delta stated it would expand the unsafe condition beyond the type certificate (TC) holder and require additional review by STC holders. Delta also stated that operators and ACLP do not possess STC design data, so they cannot review it.

The FAA disagrees with adding a requirement for STC holders to review their design data. The operator or owner responsible for maintenance and repairs of the airplane is responsible for examining the airplane records and records for STCs, amended STCs, or other equivalent changes to ensure those changes do not affect compliance with the requirements of an AD. If such changes are found, it is the responsibility of the airplane operator or owner to coordinate with the STC holder to determine whether the STC complies with the updated repair data. For airplanes that have been previously modified, altered, or repaired in the areas addressed by this AD, the operator may not be able to accomplish the actions described in the revisions. In this situation, to comply with 14 CFR 91.403(c), the operator must request approval for an alternative method of compliance (AMOC) according to paragraph (i)(1) of this AD. The FAA has not changed this AD in this regard.

Request To Combine ADs and Make Corresponding Changes

Delta requested the FAA revise paragraph (g) of the proposed AD to add the requirements of Transport Canada AD CF-2023-70. In addition, Delta requested several other miscellaneous changes related to this request, if the FAA agrees to combine Transport Canada AD CF-2023-70 with the proposed AD. The FAA proposed to adopt the requirements and compliance times specified in Transport Canada AD CF-2023-70 for Model BD-500-1A11, in an NPRM that was published in the Federal Register on July 3, 2024 (89 FR 55126) (Docket No. FAA-2024-1703, Project Identifier MCAI-2023-01054-T). Among other actions, Transport Canada AD CF-2023-37 prohibited the use of certain ACLP REOs and required corrective action (i.e., review and disposition of existing repairs and damage assessments) for Model BD-500-1A10 airplanes, while Transport Canada AD CF-2023-70 required the same actions for Model BD-500-1A11 airplanes. Delta stated that including all the requirements for Model BD-500-1A11 airplanes into this proposed AD would make repair review and disposition easier. Delta also stated the earlier adoption of the requirements in Transport Canada AD CF-2023-70 would reduce the number of repairs that need to be reviewed by ACLP, thus reducing the workload on operators. Delta asserts that including Transport Canada AD CF-2023-70 in the proposed AD ensures all safety issues pertinent to the unsafe condition are fully addressed.

The FAA disagrees with combining the Transport Canada ADs into one FAA rulemaking and the other associated changes. The state of design initiated separate actions. If the FAA unilaterally consolidated the proposed ADs, it would delay the rulemaking activity and thus delay making the proposed requirements mandatory. Therefore, the FAA has not changed this AD in this regard.

As discussed previously, the FAA revised this AD to prohibit use of ACLP REOs issued prior to January 1, 2023, for Model BD-500-1A10 airplanes. This change matches the compliance time for the same proposed requirement for Model BD-500-1A11 airplanes (in Project Identifier MCAI-2023-01054-T corresponding to Transport Canada AD CF-2023-70), ensuring those actions are mandated at the same time and the number of repairs reviewed by Airbus Canada and the workload on operators is reduced.

Request To Shorten Compliance Time

An anonymous commenter requested that the FAA shorten the proposed 24-month compliance time for identifying existing repairs and damage assessments. The commenter stated a concern about the completeness of the information available to assess the safety issue using consequence of failure analysis and added that the proposed requirement to send all repairs to ALCP for review suggests there is a lack of knowledge regarding the prevalence of deficient repairs and the number of potentially affected aircraft. The commenter also added the unknown specifics of these repairs make it difficult to determine the frequency of exceeding structural limits or the potential for injuries. The commenter stated it is challenging for anyone to accurately calculate the total uncorrected risk, and that the chosen timeframe for repair review (24 months) appears arbitrary in the absence of proper exposure assessment. The commenter recommended that the repair review process be swifter and suggested that grounding the airplanes until repairs are assessed and addressed might be a necessary safety precaution.

The FAA disagrees with shortening the compliance time. After considering all the available information, the FAA has determined that the compliance time, as proposed, represents an appropriate interval of time in which the required actions can be performed in a timely manner within the affected fleet, while still maintaining an adequate level of safety. In developing an appropriate compliance time, the FAA considered the safety implications for timely accomplishment of the repair reviews. To reduce the compliance time of the proposed AD would necessitate (under the provisions of the Administrative Procedure Act) reissuing the notice, reopening the period for public comment, considering additional comments subsequently received, and eventually issuing a final rule. In light of this, and in consideration of the amount of time that has already elapsed since issuance of the original notice, the FAA has determined that further delay of this AD is not appropriate. However, if additional data are presented that would justify a shorter compliance time, the FAA may consider further rulemaking on this issue. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

Transport Canada AD CF-2023-37R1 specifies procedures for doing a verification/record check of previous aircraft damage and repairs and determining if previous repairs require further action based on revised limits and damage assessments and accomplishing applicable actions. Transport Canada AD CF-2023-37R1 further prohibits the use of ASRPs prior to 136.01 and certain REOs. This material is reasonably available because the interested parties have access to it through their normal course of business or by the means identified in the ADDRESSES section.

Costs of Compliance

The FAA estimates that this AD affects 45 airplanes of U.S. registry. The FAA estimates the following costs to comply with this AD:

Estimated Costs for Required Actions
Labor cost | Parts cost | Cost per product | Cost on U.S. operators
2 work-hours × $85 per hour = $170 | $0 | $170 | $7,650

The FAA has received no definitive data on which to base the cost estimates for the on-condition actions specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-07 Airbus Canada Limited Partnership (Type Certificate Previously Held by C Series Aircraft Limited Partnership (CSALP); Bombardier, Inc.): Amendment 39-22979; Docket No. FAA-2024-0225; Project Identifier MCAI-2023-00725-T.

(a) Effective Date

This airworthiness directive (AD) is effective April 15, 2025.

(b) Affected ADs

None.

(c) Applicability

This AD applies to all Airbus Canada Limited Partnership (Type Certificate previously held by C Series Aircraft Limited Partnership (CSALP); Bombardier, Inc.) Model BD-500-1A10 and BD-500-1A11 airplanes, certificated in any category.

(d) Subject

Air Transport Association (ATA) of America Code 51, Standard practices/structures.

(e) Unsafe Condition

This AD was prompted by a design review of aircraft structural and stress reports that resulted in a revision of operational loads for some aircraft flight phases. The FAA is issuing this AD to address in-service repairs in some structural areas that require verification, and possibly further repair. The unsafe condition, if not addressed, could result in negative margins for the load envelopes.

(f) Compliance

Comply with this AD within the compliance times specified, unless already done.

(g) Requirements

Except as specified in paragraph (h) of this AD: Comply with all required actions and compliance times specified in, and in accordance with, Transport Canada AD CF-2023-37R1, dated May 22, 2024 (Transport Canada AD CF-2023-37R1).

(h) Exceptions to Transport Canada AD CF-2023-37R1

(1) Where Transport Canada AD CF-2023-37R1 refers to the “effective date of AD CF-2023-37, 13 June 2023,” this AD requires using the effective date of this AD.

(2) Where the definition of “Affected Structure” in Transport Canada AD CF-2023-37R1 specifies “as identified in Service Bulletin (SB) BD500-530011, Issue 003, dated 03 May 2024 or later revisions approved by the Chief, Continuing Airworthiness, Transport Canada,” this AD requires replacing that text with “as identified in Airbus Canada Limited Partnership Service Bulletin BD500-530011, Issue 002, dated December 6, 2022; or Airbus Canada Limited Partnership Service Bulletin BD500-530011, Issue 003, dated May 3, 2024.”

(3) Where Part II, paragraph A. of Transport Canada AD CF-2023-37R1 specifies to “identify all existing repairs and damage assessments for affected structure,” this AD requires replacing that text with “identify all existing repairs and damage assessments accomplished before the effective date of this AD for affected structure.”

(i) Additional AD Provisions

The following provisions also apply to this AD:

(1) Alternative Methods of Compliance (AMOCs): The Manager, AIR-520, Continued Operational Safety Branch, FAA has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or Transport Canada; or Airbus Canada Limited Partnership's Transport Canada Design Approval Organization (DAO). If approved by the DAO, the approval must include the DAO-authorized signature.

(j) Additional Information

For more information about this AD, contact Yaser Osman, Aviation Safety Engineer, FAA, 2200 South 216th St., Des Moines, WA 98198; phone: 860-386-1786; email: yaser.m.osman@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada AD CF-2023-37R1, dated May 22, 2024.

(ii) [Reserved]

(3) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on March 3, 2025.
Peter A. White,
Deputy Director, Integrated Certificate Management Division, Aircraft Certification Service.

[FR Doc. 2025-03859 Filed 3-10-25; 8:45 am]

BILLING CODE 4910-13-P